DEPARTMENT OF COMMERCE

International Trade Administration

[A-570-073]

Common Alloy Aluminum Sheet From the People's Republic of China: Amended Preliminary Affirmative Determination of Sales at Less Than Fair Value

AGENCY: Enforcement and Compliance, International Trade Administration, Department of Commerce.

SUMMARY: The Department of Commerce (Commerce) is amending the preliminary determination of the less-than-fair-value (LTFV) investigation of common alloy aluminum sheet (aluminum sheet) from the People's Republic of China (China) to correct a significant ministerial error.

DATES: Applicable August 8, 2018.

FOR FURTHER INFORMATION CONTACT: Deborah Scott or Scott Hoefke, AD/CVD Operations, Office VI, Enforcement and Compliance, International Trade Administration, U.S. Department of Commerce, 1401 Constitution Avenue NW, Washington, DC 20230; telephone: (202) 482-2657 or (202) 482-4947, respectively.

SUPPLEMENTARY INFORMATION:

Background

On June 22, 2018, Commerce published in the Federal Register the Preliminary Determination,¹ and completed the disclosure of all calculation materials to interested parties. On June 26, 2018, Henan Mingtai Al Industrial Co., Ltd. and Zhengzhou Mingtai Industry Co., Ltd. (collectively, Mingtai), timely filed a ministerial error allegation regarding the Preliminary Determination.² Commerce did not receive ministerial error allegations or comments from any other interested party.

¹ See Antidumping Duty Investigation of Common Alloy Aluminum Sheet from the People's Republic of China: Affirmative Preliminary Determination of Sales at Less-Than-Fair Value, Preliminary Affirmative Determination of Critical Circumstances, and Postponement of Final Determination, 83 FR 29088 (June 22, 2018) (Preliminary Determination).

² See Letter from Mingtai, “Common Alloy Aluminum Sheet from the People's Republic of China—Ministerial Error Allegation,” dated June 26, 2018.

Period of Investigation

The period of investigation is April 1, 2017 through September 30, 2017.

Scope of the Investigation

The product covered by this investigation is aluminum sheet from China. For a complete description of the scope of this investigation, see the Appendix to this notice.

Analysis of Significant Ministerial Error Allegation

Commerce will analyze any comments received and, if appropriate, correct any significant ministerial error by amending the preliminary determination according to 19 CFR 351.224(e). A ministerial error is defined in 19 CFR 351.224(f) as “an error in addition, subtraction, or other arithmetic function, clerical error resulting from inaccurate copying, duplication, or the like, and any other similar type of unintentional error which the Secretary considers ministerial.” ³ A significant ministerial error is defined as a ministerial error, the correction of which, singly or in combination with other errors, would result in: (1) A change of at least five absolute percentage points in, but not less than 25 percent of, the antidumping duty rate calculated in the original preliminary determination; or (2) a difference between an antidumping duty rate of zero or de minimis and an antidumping duty rate of greater than de minimis or vice versa.⁴

³ See also section 735(e) of the Tariff Act of 1930, as amended (the Act).

⁴ See 19 CFR 351.224(g).

Amended Preliminary Determination

Pursuant to 19 CFR 351.224(e) and (g)(1), Commerce is amending the Preliminary Determination to reflect the correction of one ministerial error made in the calculation of the estimated weighted-average dumping margin for Mingtai.⁵ This error is a significant ministerial error within the meaning of 19 CFR 351.224(g) because Mingtai's margin decreases from 167.16 percent to 91.47 percent as a result of correcting this ministerial error, exceeding the specified threshold, i.e., a change of at least five absolute percentage points in, but not less than 25 percent of, the antidumping duty rate calculated in the original preliminary determination.⁶

⁵ See Memorandum, “Less-Than-Fair-Value Investigation of Common Alloy Aluminum Sheet from the People's Republic of China: Allegation of Ministerial Error in the Preliminary Determination,” dated concurrently with this notice (Ministerial Error Memorandum).

⁶ See Memorandum, “Analysis for the Amended Preliminary Determination of the Less-Than-Fair-Value Investigation of Common Alloy Aluminum Sheet from the People's Republic of China for Henan Mingtai Al Industrial Co., Ltd. and Zhengzhou Mingtai Industry Co., Ltd.,” dated concurrently with this notice.

Mingtai is the only mandatory respondent for which Commerce calculated a weighted-average dumping margin in the Preliminary Determination. For this reason, we assigned Mingtai's calculated rate to the non-examined respondents that preliminarily received a separate rate.⁷ Accordingly, as part of this amended preliminary determination, Commerce will amend the estimated weighted-average dumping margin to 91.47 percent for each non-examined respondent that preliminarily received a separate rate.

⁷ See Preliminary Determination, 83 FR at 29090.

In the Preliminary Determination, we found that Nanjie Resources Co., Limited, Yong Jie New Material Co., Ltd., and Zhejiang Yongjie Aluminum Co., Ltd. (collectively, the Yongjie Companies), Zhejiang GKO Aluminium Stock Co., Ltd. (GKO Aluminium), and the China-wide entity failed to cooperate by not acting to the best of their ability to comply with requests for information and, thus, found that an adverse inference was warranted in selecting from the facts otherwise available.⁸ In an investigation, Commerce's practice with respect to the assignment of a rate based on adverse facts available is to select the higher of: (1) The highest dumping margin alleged in the petition or (2) the highest calculated dumping margin of any respondent in the investigation.⁹ In the Preliminary Determination, because the highest margin in the initiation of this investigation (i.e., 59.72 percent) was less than the 167.16 percent margin calculated for Mingtai, we assigned the 167.16 percent rate to the Yongjie Companies, GKO Aluminium, and the China-wide entity as adverse facts available.¹⁰ For this amended preliminary determination, we examined whether the highest margin in the initiation of the investigation (i.e., 59.72 percent) was less than or equal to the highest calculated margin, and determined that the highest calculated margin of 91.47 percent was the higher of the two. Because this rate is a calculated rate based on a mandatory respondent's data in this segment of the proceeding, it does not constitute secondary information and, therefore, it does not need to be corroborated. Therefore, for this amended preliminary determination, as facts available based on an adverse inference, we have assigned to the Yongjie Companies, GKO Aluminium, and the China-wide entity a dumping margin of 91.47 percent, which is the highest calculated rate in this proceeding.

⁸ See Memorandum, “Decision Memorandum for the Preliminary Determination in the Antidumping Duty Investigation of Common Alloy Aluminum Sheet from the People's Republic of China,” dated June 15, 2018 (Preliminary Decision Memorandum), at 20-26.

⁹ See, e.g., Certain Uncoated Paper from Indonesia: Final Determination of Sales at Less Than Fair Value, 81 FR 3101 (January 20, 2016).

¹⁰ See Preliminary Decision Memorandum, at 26.

Amended Cash Deposits and Suspension of Liquidation

The collection of cash deposits and suspension of liquidation will be revised according to the rates calculated in this amended preliminary determination. Because these amended rates result in reduced cash deposits, the amended rate for Mingtai will be effective retroactively to June 22, 2018, the date of publication of the Preliminary Determination. As Commerce preliminarily found that critical circumstances exist for imports of subject merchandise from the non-examined respondents that preliminarily received a separate rate, the Yongjie Companies, GKO Aluminium, and the China-wide entity,¹¹ the amended rates for these entities will be effective retroactively to March 24, 2018, i.e., 90 days before the publication of the Preliminary Determination. Parties will be notified of this determination, in accordance with section 733(d) and (f) of the Act.

¹¹ See Preliminary Determination, 83 FR at 29089 and Preliminary Decision Memorandum, at 4-7.

Amended Preliminary Determination

Commerce preliminarily determines that the following estimated weighted-average antidumping duty margins exist:

Exporter | Producer | Weighted- average margin (percent) | Cash deposit adjusted for subsidy offset (percent)
Henan Mingtai Al Industrial Co., Ltd./Zhengzhou Mingtai Industry Co., Ltd.¹² | Henan Mingtai Al Industrial Co., Ltd./Zhengzhou Mingtai Industry Co., Ltd | 91.47 | 91.47
Alcha International Holdings Limited | Jiangsu Alcha Aluminium Co., Ltd | 91.47 | 91.47
Alumax Composite Material (Jiangyin) Co., Ltd | Chalco Ruimin Co., Ltd | 91.47 | 91.47
Granges Aluminum (Shanghai) Co., Ltd | Granges Aluminum (Shanghai) Co., Ltd | 91.47 | 91.47
Henan Founder Beyond Industry Co., Ltd | Henan Xintai Aluminum Industry Co., Ltd | 91.47 | 91.47
Huafon Nikkei Aluminium Corporation | Huafon Nikkei Aluminium Corporation | 91.47 | 91.47
Jiangsu Lidao New Material Co., Ltd | Henan Jinyang Luyue Co., Ltd | 91.47 | 91.47
Jiangsu Lidao New Material Co., Ltd | Jiangsu Zhong He Aluminum Co., Ltd | 91.47 | 91.47
Jiangyin Litai Ornamental Materials Co., Ltd | Jiangyin Litai Ornamental Materials Co., Ltd | 91.47 | 91.47
Jiangyin New Alumax Composite Material Co. Ltd | Chalco Ruimin Co., Ltd | 91.47 | 91.47
Shandong Fuhai Industrial Co., Ltd | Shandong Fuhai Industrial Co., Ltd | 91.47 | 91.47
Tianjin Zhongwang Aluminium Co., Ltd | Tianjin Zhongwang Aluminium Co., Ltd | 91.47 | 91.47
Xiamen Xiashun Aluminum Foil Co., Ltd | Xiamen Xiashun Aluminum Foil Co., Ltd | 91.47 | 91.47
Yantai Jintai International Trade Co., Ltd | Shandong Nanshan Aluminium Co., Ltd | 91.47 | 91.47
Yinbang Clad Material Co., Ltd | Yinbang Clad Material Co., Ltd | 91.47 | 91.47
Zhengzhou Silverstone Limited | Henan Zhongyuan Aluminum Co., Ltd | 91.47 | 91.47
Zhengzhou Silverstone Limited | Luoyang Xinlong Aluminum Co., Ltd | 91.47 | 91.47
Zhengzhou Silverstone Limited | Shanghai Dongshuo Metal Trade Co., Ltd | 91.47 | 91.47
Zhengzhou Silverstone Limited | Zhengzhou Mingtai Industry Co., Ltd | 91.47 | 91.47
China-Wide Entity | 91.47 | 91.47

Disclosure

We intend to disclose the calculations performed to parties in this proceeding within five days after public announcement of the amended preliminary determination, in accordance with 19 CFR 351.224.

¹² We preliminarily determined that Henan Mingtai Al Industrial Co., Ltd. and Zhengzhou Mingtai Industry Co., Ltd. are a single entity. See Preliminary Decision Memorandum, at 17-19; see also Memorandum, “Preliminary Affiliation and Collapsing Memorandum for Henan Mingtai Al Industrial Co., Ltd. and Zhengzhou Mingtai Industry Co., Ltd.,” dated June 15, 2018.

International Trade Commission Notification

In accordance with section 733(f) of the Act, we will notify the International Trade Commission of our amended preliminary determination.

This amended preliminary determination is issued and published pursuant to sections 733(f) and 777(i) of the Act and 19 CFR 351.224(e).

Dated: July 31, 2018.
Gary Taverman,
Deputy Assistant Secretary for Antidumping and Countervailing Duty Operations, performing the non-exclusive functions and duties of the Assistant Secretary for Enforcement and Compliance.

Appendix

Scope of the Investigation

The merchandise covered by this investigation is aluminum common alloy sheet (common alloy sheet), which is a flat-rolled aluminum product having a thickness of 6.3 mm or less, but greater than 0.2 mm, in coils or cut-to-length, regardless of width. Common alloy sheet within the scope of this investigation includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core.

Common alloy sheet may be made to ASTM specification B209-14, but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of the investigation if performed in the country of manufacture of the common alloy sheet.

Excluded from the scope of this investigation is aluminum can stock, which is suitable for use in the manufacture of aluminum beverage cans, lids of such cans, or tabs used to open such cans. Aluminum can stock is produced to gauges that range from 0.200 mm to 0.292 mm, and has an H-19, H-41, H-48, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3090, 7606.12.6000, 7606.91.3090, 7606.91.6080, 7606.92.3090, and 7606.92.6080. Further, merchandise that falls within the scope of this investigation may also be entered into the United States under HTSUS subheadings 7606.11.3030, 7606.12.3030, 7606.91.3060, 7606.91.6040, 7606.92.3060, 7606.92.6040, 7607.11.9090. Although the HTSUS subheadings are provided for convenience and customs purposes, the written description of the scope of this investigation is dispositive.

[FR Doc. 2018-16897 Filed 8-7-18; 8:45 am]

BILLING CODE 3510-DS-P